DEPARTMENT OF DEFENSE

Office of the Secretary

Strategic Environmental Research and Development Program, Scientific Advisory Board; Notice of Meeting

AGENCY: Department of Defense.

ACTION: Notice.

SUMMARY: Under the provisions of the Federal Advisory Committee Act of 1972 (5 U.S.C. Appendix, as amended), the Government in the Sunshine Act of 1976 (5 U.S.C. 552b, as amended), and 41 CFR 102-3.150, the Department of Defense announces an open meeting of the Strategic Environmental Research and Development Program, Scientific Advisory Board (SAB). This notice is published in accordance with Section 10(a)(2) of the Federal Advisory Committee Act (Pub. L. 92-463).

DATES: Wednesday, June 12, 2013 from 9:00 a.m. to 4:30 p.m.

ADDRESSES: Virginia Tech Briefing Center—Falls Church Room, 900 North Glebe Road, 2nd Floor, Arlington, VA 22203.

FOR FURTHER INFORMATION CONTACT: Mr. Jonathan Bunger, SERDP Office, 4800 Mark Center Drive, Suite 17D08 Alexandria, VA 22350-3600, by telephone at (571) 372-6384.

SUPPLEMENTARY INFORMATION: The purpose of the June 12, 2013 meeting is to review new start research and development projects requesting Strategic Environmental Research and Development Program funds in excess of $1 million over the proposed length of the project as required by the SERDP Statute, U.S. Code—Title 10, Subtitle A, Part IV, Chapter 172, § 2904. The full agenda follows:

9:00 a.m. | Convene/Opening Remarks; Approval of October 2012 Minutes | Mr. Joseph Francis, Chair.
9:10 a.m. | Program Update | Dr. Jeffrey Marqusee, Executive Director.
9:25 a.m. | Resource Conservation and Climate Change Overview | Dr. John Hall, Resource Conservation and Climate Change, Program Manager.
9:35 a.m. | 13 RC01-001 (RC-2334): The Impact of Sea-Level Rise and Climate Change on Department of Defense Installations on Atolls in the Pacific Ocean (FY13 New Start) | Dr. Curt Storlazzi, U.S. Geological Survey, Santa Cruz, CA.
10:20 a.m. | Break |
10:35 a.m. | 13 RC01-004 (RC-2340): Water Resources on Guam: Potential impacts and adaptive response to climate change for Department of Defense Installations (FY13 New Start) | Dr. Stephen Gingerich, U.S. Geological Survey, Honolulu, HI.
11:20 a.m. | Academy Study of Health Risks from Lead Exposure at DOD Firing Ranges | Ms. Susan Martel, Board on Environmental Studies and Toxicology, National Research Council, National Academy of Sciences.
12:20 p.m. | Lunch |
1:20 p.m. | Resource Conservation and Climate Change Overview | Dr. John Hall, Resource Conservation and Climate Change, Program Manager.
1:30 p.m. | RC-2242: Climate Change Impacts to Department of Defense Installations (FY12 Re-Brief) | Dr. Veerabhadra Kotamarthi, Argonne National Laboratory, Argonne, IL.
2:15 p.m. | Break |
2:30 p.m. | Science and Technology Directorate and Mission | Dr. Jeffrey Marqusee, Executive Director
3:00 p.m. | Weapons Systems and Platforms Overview | Dr. Robin Nissan, Weapons Systems and Platforms, Program Manager.
3:10 p.m. | 13 WP04-007 (WP-2339): Generating a Synthetic Biology Toolbox for Nitroorganics (FY13 New Start) | Dr. Jon Magnuson, Pacific Northwest National Laboratory, Richland, WA.
3:55 p.m. | Underwater UXO Workshop | Dr. Herb Nelson, Munitions Response, Program Manager.
4:15 p.m. | Parliamentary Procedures | Dr. Anne Andrews, Deputy Director.
4:30 p.m. | Public Discussion/Adjourn |

Pursuant to 41 CFR 102-3.105(j) and 102-3.140, and section 10(a)(3) of the Federal Advisory Committee Act of 1972, written statements to the committee may be submitted to the committee at any time or in response to an approved meeting agenda.

Dated: May 14, 2013.
Aaron Siegel,
Alternate OSD Federal Register Liaison Officer, Department of Defense.

[FR Doc. 2013-11763 Filed 5-16-13; 8:45 am]

BILLING CODE 5001-06-P